DEPARTMENT OF VETERANS AFFAIRS

[OMB Control No. 2900-0710]

Agency Information Collection Activity Under OMB Review: VSO Access to VHA Electronic Health Records

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before August 22, 2018.

ADDRESSES: Submit written comments on the collection of information through www.Regulations.gov or to Office of Information and Regulatory Affairs, Office of Management and Budget, Attn: VA Desk Officer; 725 17th St. NW, Washington, DC 20503 or sent through electronic mail to oira_submission@omb.eop.gov. Please refer to “OMB Control No. 2900-0710” in any correspondence.

FOR FURTHER INFORMATION CONTACT: Cynthia Harvey-Pryor, Office of Quality, Privacy and Risk (OQPR), Department of Veterans Affairs, 810 Vermont Avenue NW, Washington, DC 20420, (202) 461-5870 or email cynthia.harvey-pryor@va.gov. Please refer to “OMB Control No. 2900-0710” in any correspondence.

SUPPLEMENTARY INFORMATION:

Authority: 38 U.S.C. Parts 51 and 52.

Title: VSO Access to VHA Electronic Health Records, VA Form 10-0400.

OMB Control Number: 2900-0710.

Type of Review: Extension of a currently approved collection.

Abstract: The information is being used to establish VA Veterans Health Information Systems Technology Architecture (VistA) computer accounts for Veteran Service Officers (VSO's) who have been granted Power of Attorney by veterans who have medical information recorded in VA electronic health records. This information is collected under the authority of Title 38, CFR parts 51 and 52, Veterans Benefits.

The information will be used by VHA Office of Health Information Governance and/or contractors to create accounts in the VistA computer system for VSO's. The information collected is used for a national roll-out of a project targeted at providing more efficient benefits processing services to veterans. The VistA system requires a minimal set of data to create an account, which has been reflected on the form. After the initial roll-out, the burden to the government will be minimal, only involving VSO staff turnover.

An agency may not conduct or sponsor, and a person is not required to respond to a collection of information unless it displays a currently valid OMB control number. The Federal Register Notice with a 60-day comment period soliciting comments on this collection of information was published at 83 FR 5165 on February 5, 2018, pages 5165 and 5166.

Affected Public: Individuals or Households.

Estimated Total Annual Burden: 17 hours.

Estimated Average Burden per Respondent: 2 minutes.

Frequency of Response: Yearly.

Estimated Number of Respondents: 500.

By direction of the Secretary.
Cynthia D. Harvey-Pryor,
Department Clearance Officer, Office of Quality, Privacy and Risk, Department of Veterans Affairs.

[FR Doc. 2018-15637 Filed 7-20-18; 8:45 am]

BILLING CODE 8320-01-P